JUDICIAL CONFERENCE OF THE UNITED STATES

Hearings of the Judicial Conference Advisory Committees on Rules of Appellate, Bankruptcy, and Criminal Procedure

AGENCY: Judicial Conference of the United States; Advisory Committees on Rules of Appellate, Bankruptcy, and Criminal Procedure.

ACTION: Notice of Cancellation of Open Hearing.

SUMMARY: The public hearings on proposed amendments to the Federal Rules of Appellate, Bankruptcy, and Criminal Procedure, scheduled for January 9, 2006, in Phoenix, Arizona, have been canceled. [Original notice of hearing appeared in the Federal Register of September 13, 2005.]

FOR FURTHER INFORMATION CONTACT: John K. Rabiej, Chief, Rules Committee Support Office, Administrative Office of the United States Courts, Washington, DC 20544, telephone (202) 502-1820.

Dated: December 12, 2005.
John K. Rabiej,
Chief, Rules Committee Support Office.

[FR Doc. 05-24187 Filed 12-16-05; 8:45 am]

BILLING CODE 2210-55-M